DEPARTMENT OF JUSTICE

Notice of Lodging of Proposed Modification of Consent Decree Under the Comprehensive Environmental Response Compensation and Liability Act

On July 1, 2022, the Department of Justice lodged a proposed Modification of Consent Decree with the United States District Court for the Western District of Pennsylvania in the lawsuit entitled United States and the Territory of American Samoa v. Starkist Co. and Starkist Samoa Co., Civil Action No. 2:17 CV 01190-DSC.

The proposed Modification of Consent Decree pertains to a consent decree entered by the United States District Court for the Western District of Pennsylvania, Pittsburgh Division on March 7, 2018, (“Modification”), which resolved claims arising under sections 301(a) and 311(j) of the Clean Water Act, 42 U.S.C. 7412, sections 312 and 313 of the Emergency Planning and Community Right-to-Know Act, 42 U.S.C. 11022 and 11023, and section 3010 of the Resource Conservation and Recovery Act, 42 U.S.C. 6930, and the regulations promulgated under those statutes. The Modification would, among other things, require Starkist Co. and Starkist Samoa, Co. to achieve and maintain compliance with the effluent limits in its National Pollution Discharge Elimination System (NPDES) permit in an alternative manner than that set forth in the original consent decree.

Pursuant to 28 U.S.C. 50.7, the United States will publish a notice of the lodging of the proposed Modification of the consent decree in the Federal Register. The date that notice is published will open a 30-day period for public comment on the proposed Modification of the consent decree. Comments should be addressed to the Assistant Attorney General, Environment and Natural Resources Division, and should refer to United States and Territory of American Samoa v. StarKist Co. and Starkist Samoa Co., D.J. Ref. No. 90-5-1-1-11357. Comments may be submitted either by email or by mail:

To submit comments: | Send them to:
By email | pubcomment-ees.enrd@usdoj.gov.
By mail | Assistant Attorney General, U.S. DOJ—ENRD, P.O. Box 7611, Washington, DC 20044-7611.

During the public comment period, the Modification may be examined and downloaded at this Justice Department website: https://www.justice.gov/enrd/consent-decrees. An unofficial translation of the Modification is available along with the official English version on our website. O loo i la matou laupepa o upega tafa'ilagi se faaliliuga e le'i faaaloa'ia o le Teuteuga faatasi ma lona tusitusiga i le gagana Peretania. We will provide a paper copy of the consent decree upon written request and payment of reproduction costs. Please mail your request and payment to: Consent Decree Library, U.S. DOJ—ENRD, P.O. Box 7611, Washington, DC 20044-7611.

Please enclose a check or money order for $11.25 (25 cents per page reproduction cost) payable to the United States Treasury.

Lori Jonas,
Assistant Section Chief, Environmental Enforcement Section, Environment and Natural Resources Division.

[FR Doc. 2022-16341 Filed 7-28-22; 8:45 am]

BILLING CODE 4410-15-P